DEPARTMENT OF STATE

[Public Notice 5994]

Bureau of Educational and Cultural Affairs (ECA) Request for Grant Proposals: Open Competition Seeking Professional Exchange Programs in Africa, East Asia, Europe, the Near East, North Africa, South Central Asia, and the Western Hemisphere

Announcement Type: New Grant.

Funding Opportunity Number: ECA/PE/C-08-01.

Catalog of Federal Domestic Assistance Number: 19.415.

Key Dates:

Application Deadline: February 15, 2007.

Executive Summary: The Office of Citizen Exchanges of the Bureau of Educational and Cultural Affairs announces an open competition for grants that support exchanges and build relationships between U.S. non-profit organizations and civil society and cultural groups in Africa, East Asia, Europe, the Near East, North Africa, South Central Asia and the Western Hemisphere. Pending availability of funds, it is anticipated that approximately $5,000,000 or more will be available to support this competition. ECA/PE/C expects to fund approximately 15-20 projects under this competition in FY 2008. U.S. public and non-profit organizations meeting the provisions described in Internal Revenue code section 26 U.S.C. 501(c)(3) may submit proposals that support the goals of The Professional Exchange Program. Projects should promote mutual understanding and partnerships between key professional and cultural groups in the United States and counterpart groups in other countries through multi-phased exchanges taking place over one to two years. Proposals should encourage citizen engagement in current issues, with a particular focus on youth and those who influence them, and promote the development of democratic societies and institutions, with a view toward creating a more stable world. To the fullest extent possible, programs should be two-way exchanges supporting roughly equal numbers of participants from the U.S. and foreign countries.

Proposed projects should transform institutional and individual understanding of key issues, foster dialogue, share expertise, and develop capacity. Through these people-to-people exchanges, the Bureau seeks to break down stereotypes that divide peoples, to promote good governance and economic growth, to contribute to conflict prevention and management, and to build respect for cultural expression and identity in the world. Projects should be structured to allow American professionals and their international counterparts in eligible countries to develop a common dialogue for dealing with shared challenges and concerns. Projects should include current or potential leaders who will effect positive change in their communities. Exchange participants may include community leaders, elected and professional government officials, religious leaders, educators, and proponents of democratic ideals and institutions, including for example, the media and judiciary, or others who influence the way in which different communities approach these issues. The Bureau is especially interested in engaging socially and economically diverse groups that may not have had extensive contact with counterpart institutions in the United States and particularly seeks proposals that engage educators or other groups that directly influence youth in innovative ways.

Applicants may not submit proposals that address more than one region or that include countries not eligible under a specific theme designated in the RFGP. Proposals that do so will be declared technically ineligible and will receive no further consideration in the review process. For the purposes of this competition, eligible regions are Africa, East Asia, Europe, the Near East, North Africa, South Central Asia, and the Western Hemisphere. No guarantee is made or implied that grants will be awarded in all themes and for all countries listed.

I. Funding Opportunity Description

II. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The competition is based on the premise that people-to-people exchanges encourage and strengthen understanding of democratic values, nurture the social, political, cultural, and economic development of societies and encourage a more active citizenry. Exchanges supported by institutional grants from the Bureau should operate at two levels: they should enhance partnerships between U.S. and foreign institutions, and they should establish a common language to develop practical solutions for shared problems and concerns. The Bureau is particularly interested in projects that will create mutually beneficial and self-sustaining linkages between professional communities in the U.S. and their counterpart communities in other countries. Applicants must identify the U.S. and foreign organizations and individuals with whom they are proposing to collaborate and describe previous cooperative activities, if any. Information about the mission, activities, and accomplishments of partner organizations should be included in the submission. Proposals should contain letters of commitment or support from partner organizations for the proposed project. Applicants should clearly outline and describe the role and responsibilities of all partner organizations in terms of project logistics, management and oversight.

Competitive proposals will include the following:

• A brief description of the issue to be addressed and how it relates to the target country or region. (Proposals that request resources for an initial needs assessment will be deemed less competitive under the review criterion Program Planning and Ability to Achieve Objectives, per item V.1 below.);

• A clear, succinct statement of program objectives and expected outcomes that responds to Bureau goals for each theme in this competition. Desired outcomes should be described in qualitative and quantitative terms. (See the Program Monitoring and Evaluation section per item V.1 below, for more information on project objectives and outcomes.);

• A proposed timeline, listing the optimal schedule for each program activity;

• A description of participant recruitment and selection processes;

• Letters of support from foreign and U.S. partners. (Letters from prospective partner institutions should demonstrate a capacity to arrange and conduct U.S. and overseas activities.);

• An outline of the applicant organization's relevant expertise in the project theme and country(ies);

• An outline of relevant experience managing previous exchange programs;

• Resumes of experienced staff who have demonstrated a commitment to implement and monitor projects and ensure outcomes;

• A comprehensive plan to evaluate whether program outcomes will achieve the specific objectives described in the narrative. (See the Program Monitoring and Evaluation section [IV.3d.d below] for further guidance on evaluation.);

• A post-grant plan that demonstrates how the grantee plans to maintain contacts initiated through the program. Applicants should discuss ways that U.S. and foreign participants or host institutions will collaborate and communicate after the ECA-funded grant has concluded. (See Review Criterion #5, per item V.1 below for more information on post-grant activities.)

• Successful projects will demonstrate the importance Americans place on community service as an element of active citizenship and may include ideas and projects to strengthen civil society through community service either during participants' stay in the U.S. or upon their return to their countries.

• In addition to addressing the specific themes described below, proposals should develop partner organizations' capacity in such areas as strategic planning, performance management, fund raising, financial management, human resources management, and decision-making.

U.S. Embassy Involvement: Before submitting a proposal, all applicants are strongly encouraged to consult with the Washington, DC-based State Department contact for the themes/regions listed in this solicitation. Applicants are also strongly encouraged to consult with Public Affairs Officers at U.S. Embassies in relevant countries as they develop proposals responding to this RFGP. Also, it is important that the proposal narrative clearly state the applicant's commitment to consult closely with the Public Affairs Section of the U.S. Embassy in the relevant country(ies) to develop plans for project implementation and to select project participants. Proposals should also acknowledge U.S. Embassy involvement in the final selection of all participants. Applicants should state their willingness to invite representatives of the Embassy(ies) and/or consulate(s) to participate in program sessions or site visits.

ECA/DOS Acknowledgement: Narratives should state that all material developed for the project will prominently acknowledge Department of State ECA Bureau funding for the program.

Outreach: Applicants who receive assistance awards are encouraged to engage in outreach activities that will promote the goals of the project and increase the visibility of the project activities, including public events and appropriate media appearances.

FY 2008 Thematic Topics by Region

REGION: Africa (AF):

AF: Economic Growth to Fight Poverty and Strengthen Democracy.

Program Contact: Curtis Huff, tel: (202) 453-8159, e-mail: HuffCE@State.gov.

Project Goals: ECA seeks proposals that promote entrepreneurial thinking, job creation, business planning, and management skills that will assist young African adults in launching business careers. Programs should increase understanding of the links between entrepreneurial activity and free markets as well as the importance of transparency and accountability in business and government. Proposals should also increase understanding among African and American participants of the influence of culture on business.

Audience: Young adults, 25-32, especially women.

Eligible Countries: Ghana, Kenya, Liberia, Mali, Nigeria, Senegal, South Africa, Tanzania, Uganda, and Zambia.

Successful programs will achieve the following:

• Educate young men and women in entrepreneurial thinking, business management skills, and attracting investment, with also the ability to design training and to lead others in building these skills.

• Enhance appreciation for American business practices and the role of the individual in creating growth through grassroots-focused entrepreneurial efforts.

• Develop enduring professional ties between U.S. and partner organizations and expand leadership skills.

• Enable participants to initiate and support development and community service activities in their home countries.

Successful applicants must demonstrate a capacity to conduct the following activities:

(1) Work jointly with an African partner organization to develop a useful business skills program for young adult Africans that includes activities in both the U.S. and Africa.

(2) U.S. experts travel to Africa for in-country consultations and preliminary trainings. Working with the African partner, U.S. experts recruit and select African participants for a U.S.-based fellowship program.

(3) Provide a six- to ten-week U.S.-based fellows program for 10 to 15 Africans on business development that features both individualized and group learning and practice activities which develop technical and leadership skills plus cultural sensitivity.

(4) As a counterpart to the fellows program in the U.S., provide a multi-week program in Africa for 10-15 Americans to learn about business challenges and opportunities there and to assist in conducting workshops for a wider audience of Africans.

(5) Develop enhancement activities and leadership development opportunities to reinforce program goals after all participants' return to their home country. An essential follow-on component will be a longitudinal assessment of the achievements of the program.

Possible Program Model:

1. Grantee sends Americans to work alongside African partners for two weeks or more to examine the needs of young adults in starting businesses in the region, and any in-country efforts that are already underway or planned to address those needs. These activities should include development of a working relationship among the Americans, their African project partners, and any African government offices that have responsibility for business development.

2. Grantee works with African partner organization to recruit a pool of 50 or more Young Professionals who are interested in starting businesses and will commit to a multi-staged development program.

3. Grantee and partner conduct a business skills program in Africa for the 50+ recruits, including instruction on how to write a business plan. Participants are invited to submit business plans to program organizers.

4. Competition is held where those who develop the best plans will be offered a U.S.-based fellowship program.

5. African participants come to the U.S. for fellowship program of six to ten weeks that features both individualized and group learning and practice activities which develop technical and leadership skills plus cultural sensitivity. (A shorter-term study tour for Africans will be considered inadequate.)

6. Grantee and African partner commit to a plan for additional business skills development activities in Africa after the grant is finished. These plans might include additional basic business training or mentoring of new businesses by American specialists and maintenance of a Web site for this purpose.

7. Grantee and African partner keep each other informed of developments in business education through email, telephone, video conferences, travel, etc, in order to maintain an informed momentum in their partnership.

AF: Local Governance.

Program Contact: Curtis Huff, tel: (202) 453-8159, e-mail: HuffCE@State.gov.

Project Goals: ECA is seeking proposals that promote democratic institutions that are effective, responsive, transparent, and accountable to the people. Programs should increase skills and commitment to professional standards in municipal planning, policy analysis, bill drafting, budgeting, constituent relations, project implementation, and administration of services. Programs should promote the establishment of responsible watchdog organizations and develop a constructive working relationship with local government officials.

Audience: Mayors, city councilors, public administrators, executives, municipal planners, and community watchdog leaders (especially women).

Eligible Countries: Democratic Republic of Congo, Ghana, Kenya, Liberia, Mali, Nigeria, Rwanda, Senegal, South Africa, and Tanzania.

Successful programs will achieve the following:

• Educate local officials in a professional approach to public administration and empower them to conduct it with integrity and effectiveness while also designing training and building the ability to lead others in this field.

• Enhance appreciation for American local governmental practices and the role of the watchdog groups.

• Establish structured interaction among American and African participants designed to develop enduring professional ties.

• Present plans to enable participants to initiate and support activities in their home countries that focus on local development and community service.

Successful applicants must demonstrate a capacity to conduct the following activities:

(1) Work jointly with an African partner organization to develop an effective governance skills program for young adult Africans that includes activities in both the U.S. and Africa.

(2) Provide a six- to ten-week U.S.-based fellows program for 10 to 15 Africans on local government.

(3) As a counterpart to the fellows program in the U.S., provide a multi-week program in Africa for 10-15 Americans to learn about local governance challenges and opportunities there and to assist in conducting workshops for a wider audience of Africans.

(4) Grantee and African partner commit to a plan for additional local governance skills development activities in Africa after the grant is finished. These plans might include additional basic training or mentoring and maintenance of a web site for this purpose.

(5) Launch a self-sustaining program of enhancement activities and leadership development opportunities to reinforce program goals after all participants' return to their home country. An essential follow-on component will be a longitudinal assessment of the achievements of the program.

Possible Program Model:

1. Grantee sends Americans to work alongside African partners for two weeks or more to learn about the local governance efforts in the region.

2. Grantee and partner conduct a local governance education program in Africa for local leaders. Program participants would then be invited to submit training plans, with the incentive that those who produce the best plans will be invited to the U.S. for fellowships.

3. Competition is held where those who develop the best plans will be offered a U.S.-based fellowship program.

4. African participants come to the U.S. for fellowship program of six to ten weeks that features both individualized and group learning and practice activities which develop technical and leadership skills plus cultural sensitivity. (A shorter-term study tour for Africans will be considered inadequate.)

5. Grantee and African partner commit to a plan for follow-on activities in Africa after the grant is finished. These plans might include additional training in public administration or even the development of a public administration academy.

6. The grantee and African partner keep each other informed of developments in public administration education through email, telephone, video conferences, travel, etc, in order to maintain their partnership.

REGION: East Asia and the Pacific (EAP):

EAP: Active and Responsible Citizenship.

Program Contact: Clint Wright, tel: (202) 453-8164, e-mail: WrightHC@state.gov.

Project Goals: ECA encourages proposals that will help educate citizens, local officials, and leaders of non-government organizations on their rights and responsibilities in a democracy. Programs should encourage the empowerment of foreign participants to participate in the development of public policy, public discussions, and debates by developing individual skills and organizations. Projects should engage government and NGO leaders in dialogue on issues impacting local communities and engage government leaders—national and local—on the importance of citizen participation in governmental decision-making. Projects should examine specific practices that promote an effective, accountable, transparent and responsive government and public administration that is crucial to the development of democracy.

Audience: Should include representatives from government and non-governmental organizations, professional associations and community leaders between the ages of 25 and 40 with an emphasis on equal numbers of men and women.

Eligible Countries: Indonesia, Malaysia, the Philippines, and Vietnam. (single-country projects only).

Successful programs will achieve the following:

• Encourage an understanding of the important elements of a civil society. This includes concepts such as volunteerism, grassroots activism, and the importance of the rule of law in all societies.

• Programs should help develop an appreciation for American governmental and legal structures, an understanding of the diversity of American society, and the necessity for increased tolerance and respect for others with differing views and beliefs.

Successful applicants must fully demonstrate a capacity to achieve the following:

(1) Recruit and select approximately 10 to 15 individuals from government, nongovernmental organizations, and community leaders throughout the target country, including private business leaders for a six to eight week U.S.-based fellows program. Partnering with organizations based in the proposed host-country is required.

(2) Coordinate and program the fellowships.

(3) The final part of the program will be conducting enhancement activities and leadership development opportunities that reinforce program goals after the participants' return to their home country. An essential follow on component will be a longitudinal assessment of the achievements of the program.

Possible Program Model:

1. U.S. grantee identifies U.S. citizens to conduct in-country seminar for citizen leaders, teachers, NGO representatives, media, elected local government officials, and legal professionals to discuss transparency and accountability. The in-country partner (a local university or other appropriate professional group) will co-host the event with the U.S. grantee institution. During this phase, the grantee will openly recruit and select the participants to take part in the U.S.-based fellows program.

2. The grantee implements the U.S.-based fellowships in local elected officials' offices, NGO organizations, and citizen organizations.

3. An in-country program would be conducted by the U.S. experts who served as fellowship hosts or seminar leaders. The participants in U.S. program would help design seminars and serve as co-presenters. Organizers broaden impact through public outreach, including media.

4. Project may also support materials translated into native language, small grants for projects designed to expand the exchange experience, and support for the development of alumni association.

REGION: Europe (EUR):

EUR: Legislative Education and Practice Program (LEAP).

Program Contact: Jon Crocitto, Tel. (202) 453-8149; e-mail: CrocittoJA@state.gov.

Project Goals: In some European countries, concepts such as free democratic elections and political parties are still not very developed and other aspects of democracy almost seem to be moving backward. Free and democratic elections and civic activism and engagement are the backbone of a civil society. LEAP is designed to strengthen understanding of the U.S. legislative process and enhance appreciation of civic society. LEAP will provide Young Professionals from Europe with hands-on exposure to the U.S. political process through six-month internships in state legislatures, city councils or local governments in the U.S. U.S. participants should be selected among staff members at the various internship sites who will act as primary host/mentors to the foreign fellows during their U.S.-based program. After the internships are completed, these U.S. staff members will travel overseas to the interns' home countries. There they will participate in joint outreach activities, including media, and conduct on-site consultancies and presentations to wider audiences.

Audience: Generally, ECA prefers program participants who have not previously been part of U.S.-based exchange programs as participants in new programs. However, the LEAP program is an exception. Because of the unique nature of this program, foreign participants who are alumni of long-term exchange programs (an academic year or more) in the United States (USG or privately sponsored) are favored as participants in this program. These alumni have previous experience living and attending school in the U.S. that will provide them with the cultural and linguistic background necessary to benefit fully from the program. The foreign participants should be selected through a merit-based, competitive process. They should be recent university graduates in political affairs or other relevant fields—approximately mid to late 20's in age, with some professional experience in the political or legislative arenas. Participants should have demonstrated leadership abilities and a commitment to or participation in the political process or policy-making through involvement in civic education activities, citizen advocacy groups, political campaigns, political parties, or election monitoring in their home countries. U.S. participants will be staff members of the state legislatures, city councils or local governments who act as hosts for the foreign participants during the inbound portion of the program.

Eligible Countries (all should be included): Turkey, Russia, Ukraine, Georgia.

Successful applicants must fully demonstrate a capacity to achieve the following:

(1) Manage (both programmatically and logistically) the program in the United States and overseas. Interested organizations must have offices and staff (or partner organizations) in all countries involved in the program. Close coordination with ECA and U.S. Embassy Public Affairs Sections in relevant countries will be essential.

(2) Conduct recruitment and selection of participants through a merit-based competitive process. A pre-departure and an arrival orientation to ensure that participants have realistic expectations and have essential information on their individual internships, host communities, their responsibilities, and logistics should be included. Use of host families for foreign participants in the U.S. is highly encouraged.

(3) Organize an intensive introduction to the U.S. political process to take place in whole or in part in Washington, DC.

(4) Identify and manage individualized internships with state legislators, city councils or local government that will expose participants to citizen participation in the political process. Internships at the state level would be strongly preferred.

(5) Coordinate all logistics and programming for consultancy and training program where U.S. participants will travel to the countries where foreign participants are from for two to three weeks. The U.S. participants would conduct workshops and trainings that cover the U.S. legislative process and will enhance appreciation of civic society. The training(s)/workshop(s) should be designed to engage a broad audience, not just program participants. The U.S. participants would also engage in joint outreach efforts, including engagement with the media.

Possible Program Model:

1. U.S. grantee and in-country partner select about 20 foreign participants to participate in the U.S.-based program followed by a four to six month internship in state legislatures, city councils or local governments in the U.S. for foreign participants.

2. An in-country program for 10 to 15 U.S. participants (who hosted/worked with the foreign participants in the U.S.) for two to three weeks. This would include on-site consultancies and group workshop(s) for a broad audience. Foreign participants help design the seminars and serve as co-presenters.

3. A series of enrichment activities that could include support materials translated into target language, small grants for projects designed to expand the exchange experience, the creation of a web portal for ongoing virtual program activities and communication, and other activities.

EUR: Outreach and Integration of Marginalized Populations in Western Europe.

Program Contact: Brent Beemer, tel: (202) 453-8147, e-mail: BeemerBT@state.gov.

Note: Interested Applicants are HIGHLY encouraged to contact ECA before submitting a proposal under this theme.

Project Goals: ECA seeks programs that will engage community leaders, educators, youth influencers, journalists, and community-based organizations in examination of programs and practices to facilitate integration and empowerment of minority populations, particularly youth, in Western European countries. This program would look at issues related to the integration of immigrant and minority populations into a modern democratic society. This includes integration in the political system, economic opportunity, freedom of expression, access to education, and practice of an open social/cultural life, while maintaining ethnic identity within a multi-ethnic society. A specific concentration of programming on immigrant and minority youth populations and the special needs/challenges they face in modern society should be a major focus. An overall comparison and sharing of best practices in the U.S. and in the Western European countries on these issues should also be included. Programming should include an overview of U.S. and European government and legal structures, an understanding of the diversity of American and European societies and efforts to increase tolerance and respect for others with differing views and beliefs. Program content will include an overview of the range of historical and current American and European experiences with integrating various immigrant and minority citizens, examination of what has worked well and what has not, and analysis of the range of actors including government, NGOs, religious organizations, immigrant organizations, educational institutions, and the role of the media and public who report on these issues.

Audience: Participants (from the U.S. and foreign countries) in the program should include representatives of non-governmental organizations, community leaders, educators, youth influencers, religious leaders, and journalists from minority communities. Note: European Union, national, and regional government officials are welcome to be part of programming, but given funding limitations, ECA funds may not be used to support their travel expenses.

Eligible Countries (single-country projects only) Denmark, United Kingdom.

Successful programs will achieve the following:

• An understanding of issues related to the status of immigrant and minority populations in a modern democratic society. This includes integration in the political system, economic opportunity, and freedom of expression, education, and social/cultural life, while maintaining ethnic identity within a multi-ethnic society. A specific understanding of immigrant and minority youth populations and the special needs/challenges they face in modern society is envisioned.

• An appreciation for American governmental and legal structures, and a better understanding of the diversity of American society and efforts over the nation's history to increase tolerance and respect for others with differing views and beliefs. Program content will include an overview of the range of historical and current American experience with integrating various immigrant and minority citizens, examination of what has worked well and what has not, and analysis of the range of actors including local government, NGOs, religious organizations, immigrant organizations, educational institutions, and the role of the media.

• An enhanced leadership capacity that will enable participants to initiate and support activities in their home countries that focus on the status of minority populations.

Successful applicants must fully demonstrate a capacity to achieve the following:

(1) Recruit and select approximately 15 to 20 individuals throughout the target country. Program should be designed for two groups to travel to the U.S. Partnering with organizations based in target country is required. Also, given resources available in Western Europe, successful applicants will have West European partners that will cover considerable program costs within the host country and cover all its own administrative costs for this project.

(2) In addition to identifying in-country partner and screening, selecting, and preparing participants prior to departure for the United States, the recipient of this grant will be responsible for building and executing a three to four week informative travel and training program in the United States.

(3) Conduct an in-country workshop(s) to examine the process of integration of marginalized populations in Europe and developing strategies to address these issues. The workshop(s) should be designed to engage a broad audience, not just program participants.

(4) Develop enhancement activities and development opportunities that reinforce program goals after the participants' return to their home country. An essential follow-on component will be a longitudinal assessment of the achievements of the program.

Possible Program Model:

1. U.S. grantee and in-country partner identify West European citizens to participate in the U.S.-based program. Then a three to four week U.S. program that includes an orientation, study tour/site visits; possible short-term internships/work shadowing opportunities; hands on training/training-of-trainers; professional development; and the development of action plans.

2. An in-country workshop(s) for a broad audience to examine the process of integration of minority communities. Program conducted by U.S. experts that served as hosts or seminar leaders. Participants in U.S. program design the seminar and serve as co-presenters.

3. Enrichment activities that could include support materials translated into native language, small grants for projects designed to expand and sustain the exchange experience, and other activities.

REGION: Near East and North Africa (NEA):

NEA: Professional Mentoring for Women in Science and Technology.

Program Contact: Thomas Johnston, Tel: (202) 453-8162; e-mail: JohnstonTJ@state.gov.

Project Goals: ECA seeks proposals that will engage young women who have recently embarked on professions in fields requiring skills in mathematics, scientific and/or technological fields. Proposals should encourage the use of critical thinking in the professional sphere as well as other aspects of life. Proposals should include plans to provide eight- to ten-week mentorships in American laboratories, professional or commercial research and development labs, or in the high tech industries. This program will also send American specialists in similar fields to conduct/participate in seminars, workshops, on-site consultancies, and other types of activities in the home countries of Middle East participants, with the goal of reinforcing the mentorship experience and creating a wider network of women who are established in these professions or who aspire to do so. A principal goal of this program is the development of sustainable, long-term institutional and individual linkages based on the relationships established between U.S. mentors and non-American fellows.

Mentoring programs for English-speaking fellows would be designed as individual affiliations with an appropriate American professional counterpart. Proposals should also envision small specialized shadowing opportunities for groups of 2-3 international participants without strong English skills. These group opportunities should incorporate diverse training methodologies and include full-time provision of an escort/interpreter. All proposals should also include a U.S. program component allowing all participants to come together, learn from each other and to build relationships.

The Department has initiated outreach to women in science and technology in the Middle East through previous contact and conferences; organizers of previous projects may be consulted for additional contacts and information. Applicants for this ECA grant are encouraged to contact the ECA Program Officer, Thomas Johnston, for additional information and contacts.

Audience: Middle Eastern participants will be women (22-35 years of age) who are newly engaged or rising in professional careers that require significant expertise/knowledge of mathematics, science, technology and/or innovative application of these skills, and who already are, or show promise of being, role models for others in their countries, particularly for women. We would consider, for example, a lawyer, whose work requires expert knowledge of environmental science as well as international law to be eligible for this program.

Eligible Countries: Algeria; Bahrain; Egypt; Iraq; Jordan; Kuwait; Lebanon; Morocco; Oman; Qatar; Saudi Arabia; Syria; United Arab Emirates; West Bank/Gaza; Yemen.

Successful applicants must demonstrate a capacity to achieve the following:

(1) Recruit and select approximately 15 to 20 qualified individuals from throughout the eligible region, with representatives from as many countries as possible. The program should be designed for non-American fellows to travel to the United States for a group orientation program, even if they will be subsequently be engaged in individualized programs, in order to foster networking among the group. An in-country or in-region partner organization or affiliate offices overseas is required to coordinate recruiting and selection. Proposing organizations must be prepared to mount a merit-based selection process, to be described in the proposal.

(2) In addition to identifying its in-country (or in-region) partner and identifying, selecting, and preparing participants prior to departure for the United States, the recipient of this grant will be responsible for building and implementing an eight- to ten-week professional mentoring experience and training program in the United States. This will focus primarily upon individualized fellowships for the foreign participants at the R & D facilities of U.S. businesses, non-university high-tech institutes, or other appropriate affiliation as well as a commitment of appropriate American professional counterpart women to serve as mentors. The final selection of foreign fellows should take into account the types of placements that may be available in the U.S. ECA seeks creative and cost-efficient approaches to this selection and placement program.

(3) Conducting an in-country consultancy program and/or workshop in each participating country, during which the international fellow and American mentor will offer skill development and networking workshops for a broader range of program participants in that country.

(4) The development of a Web site designed to foster ongoing communication among the international and American participants and to publicize the results of this program. An essential follow-on component will be a longitudinal assessment of the achievements of the program.

Possible Program Model:

1. U.S. grantee and in-country partner institution select young non-American women engaged in science and technology for participation in the U.S.-based mentoring/fellowship program.

2. An eight- to ten-week U.S. program that includes an orientation followed by individualized fellowships for English speakers; a shorter program designed around work shadowing opportunities with interpretation for groups of 2-3 non-English speakers.

3. An in-country program in each international participating country for one or more of the American mentors (who hosted/worked with the foreign participants in the U.S.). The in-country program would include on-site consultancies, group workshops/seminars and networking opportunities for a broad audience. Foreign participants would help design the seminars and serve as co-presenters.

4. The development of a project specific Web site, as well as enrichment activities that could include having support material translated into the native language, small grants for research-development projects designed to expand the exchange experience, and other activities.

NEA: Math, Science, and Technology in Secondary Schools.

Program Contact: Thomas Johnston, Tel: (202) 453-8162; e-mail: JohnstonTJ@state.gov.

Project Goals: ECA seeks program proposals that will help develop institutional (and personal) linkages between secondary school teachers and administrators in the United States and partners in the NEA region in the disciplines of math, science, and technology innovation. ECA is looking to support creative programs that will link secondary school teachers and administrators from the U.S. and overseas in programming designed to explore approaches to engaging students in critical thinking, particularly in the teaching of math, science, and innovative approaches to technology, both in the classroom and through focused extracurricular activities, and to examine how professional counterparts in participating countries engage the successor generation.

Audience: Math, science, and technology secondary school teachers and administrators.

Eligible Countries: Algeria; Bahrain; Egypt; Iraq; Jordan; Kuwait; Lebanon; Libya; Morocco; Oman; Qatar; Saudi Arabia; Syria; United Arab Emirates; West Bank/Gaza; Yemen.

Successful programs will achieve the following:

• An understanding of techniques used in the NEA region and in the United States to promote student engagement in critical thinking and discovery, particular in math, science, and technology.

• Develop opportunities for productive personal relationships between groups from participating countries that could lead to affiliations between schools in the U.S. and schools in the NEA region.

• Participants from each country should come from the same schools or set of schools (districts) so that direct linkages on both sides are facilitated and encouraged by the program.

• An appreciation for the ways in which diverse populations can interact productively in the secondary school setting and work collaboratively to develop innovative responses to scientific and mathematics challenges. U.S. program presentations should showcase teaching math, science, and technology at the secondary level, special/accelerated programs and/or schools in the math, science, and technology disciplines, programs to attract students to these disciplines (especially girls), relevant after school programs, student job-shadowing programs, the roles of parents in schools, and how secondary schools build support and relationships with local science/technology businesses.

• Enhanced leadership capacity among the NEA educators that will enable participants to initiate and support activities in their home schools and classrooms.

• Create the foundation for collaborative partnerships among classrooms, through virtual or other exchanges.

Successful applicants must fully demonstrate a capacity to achieve the following:

(1) Recruit and select approximately 15 to 20 secondary school teachers and administrators from overseas and 15 to 20 from the U.S. to take part in the program. To recruit effectively, the grantee organization must have affiliate offices in one or more NEA countries.

(2) The recipient of this grant will be responsible for building and executing a one to two week study tour for American educators in the NEA region and a two to three week study tour program in the United States for foreign educators.

(3) Develop enhancement activities and development opportunities that reinforce program goals after the participants' return to their home country. Grantee will be responsible for establishing electronic communications/on-line projects or other methods of continuing communication and developing collaborative projects between participants and their classrooms. An essential follow-on component will be a longitudinal assessment of the achievements of the program.

Possible Program Model:

1. A merit-based competitive selection of American secondary school educators and administrators to participate in the overseas program is done.

2. A one to two week program is developed where the U.S. participants travel overseas. This should be done while schools in the host country(ies) are in session. While overseas, the U.S. participants will meet with and be hosted by foreign participants (and their schools) who have also been selected through an open merit-based competitive process. Programming should include time in active classrooms with students and presentation opportunities for the American participants in foreign schools/classrooms.

3. During an interim period, educators are in contact through active electronic communications and web-based programs.

4. A two to three week program is developed where the foreign participants travel to the U.S. This should be done while schools in the U.S. are in session. While in the U.S., the foreign participants will be hosted by U.S. participants (and their schools) whom they met in their program overseas. Programming should include time in active classrooms and at appropriate extracurricular sites with students and presentation opportunities for the foreign participants in American schools/classrooms.

5. Enrichment activities are developed that could include support materials translated into the native language, small grants for collaborative projects designed to expand and sustain the exchange experience, continuation of web/electronic activities, and other activities are done.

REGION: South Central Asia (SCA):

SCA: Secondary School Linkages.

Program Contact: Brent Beemer, tel: (202) 453-8147, e-mail: BeemerBT@state.gov.

Project Goals: ECA seeks program proposals that will help develop institutional (and personal) linkages between secondary schools in the United States and partner institutions in Turkmenistan or Pakistan. ECA will support creative programs that will link secondary school teachers and administrators from the U.S. and Turkmenistan or Pakistan in programming designed to explore each other's systems, schools, approaches to education, and study how their profession is engaging the successor generations in both countries.

Audience: Secondary school teachers and administrators. Active parents involved with parent/teacher organizations.

Eligible Countries: Turkmenistan, Pakistan (Single-Country Projects Only).

Successful programs will achieve the following:

• An understanding of issues related to the secondary school system in both countries.

• Develop opportunities for personal relationships to develop among the participants and longer-term affiliations between schools in the U.S. and schools in Turkmenistan or Pakistan to take root. Participants from both countries in the program should come from the same schools or set of schools (districts) so that direct linkages on both sides are facilitated and encouraged by the program.

• An appreciation for American governmental and legal structures, and a better understanding of the diversity of American society and how that affects the secondary school educational system. Program content should include presentations on the current American experience with integrating various immigrant citizens into the educational system, education of students with special needs, after school programs, student service/volunteer programs, the roles of parents in schools, and how secondary schools build support among local communities.

• An enhanced leadership capacity among the foreign educators that will enable participants to initiate and support activities in their home schools and classrooms.

Successful applicants must fully demonstrate a capacity to achieve the following:

(1) Recruit and select approximately 15 to 20 secondary school teachers and administrators from Turkmenistan or Pakistan and 15 to 20 from the U.S. to take part in the program. Partnering with a Turkmenistan-based or Pakistan-based organization or institution or having affiliate offices based there is required.

(2) The recipient of this grant will be responsible for building and executing a one to two week study tour for American educators overseas and a two to three week study tour program in the United States for foreign educators.

(3) Develop enhancement activities and development opportunities that reinforce program goals after the participants' return to their home country. Grantee will be responsible for establishing electronic communications/on-line projects or other methods of continuing communications between participants. An essential follow-on component will be a longitudinal assessment of the achievements of the program.

Possible Program Model:

1. A merit-based competitive selection of American secondary school educators and administrators to participate in the Turkmenistan-based or Pakistan-based program is conducted.

2. A one to two week program is developed where the U.S. participants travel to Turkmenistan or Pakistan. This should be done while schools in Turkmenistan or Pakistan are in session. While overseas, the U.S. participants will meet with and be hosted by foreign participants (and their schools) who have also been selected through an open merit-based competitive process. Programming should include time in active classrooms with students and presentation opportunities for the American participants in overseas schools/classrooms.

3. During an interim period, educators are in contact through active electronic communications and web-based programs.

4. A two to three week program is developed where the foreign participants travel to the U.S. This should be done while schools in the U.S. are in session. While in the U.S, the foreign participants will be hosted by U.S. participants (and their schools) whom they met in their program in Turkmenistan or Pakistan. Programming should include time in active classrooms with students and presentation opportunities for the foreign participants in American schools/classrooms.

5. Enrichment activities are developed that could include support materials translated into the native language, small grants for projects designed to expand and sustain the exchange experience, continuation of web/electronic activities, and other activities.

SCA: Outreach and Integration of Marginalized Populations in Sri Lanka.

Program Contact: Brent Beemer, tel: (202) 453-8147, e-mail: BeemerBT@state.gov.

Project Goals: ECA seeks programs that will engage community leaders, educators, youth influencers, journalists, and community-based organizations in examination of programs and practices to engage underserved or disengaged segments of the Sri Lankan society. This would include strengthening outreach to youth, as well as support for minority rights for the Sinhalese Muslim population, especially at the local level. This program would examine issues related to the integration of marginalized populations into a modern democratic society, including integration in the political system, economic opportunity, freedom of expression, access to education, and practice of an open social/cultural life. A specific concentration of programming on minority youth populations and the special needs/challenges they face in modern society is encouraged. Programming should include a study of U.S. government and legal structures, an understanding of the diversity of American society and efforts over the nation's history to increase tolerance and respect for others with differing views and beliefs. Program content will include an overview of the range of historical and current American experience with integrating various immigrant and minority citizens, examination of what has worked well and what has not, and analysis of the range of actors including government, NGOs, religious organizations, immigrant organizations, educational institutions, and the role of the media and public who are involved in this these issues.

Audience: Participants in the program should include representatives of non-governmental organizations, community leaders, educators, youth influencers, religious leaders, and journalists from minority communities.

Eligible Country: Sri Lanka.

Successful applicants must fully demonstrate a capacity to achieve the following:

(1) Recruit and select approximately 15 to 20 individuals throughout the target country. Program should be designed for two groups to travel to the U.S. An in-country partnering organization (based in Sri Lanka) is required.

(2) In addition to identifying in-country partner and screening, selecting, and preparing participants prior to departure for the United States, the recipient of this grant will be responsible for building and executing a three to four week study tour and training program in the United States.

(3) Conducting an in-country workshop(s) to examine the process of integration of marginalized populations in different societies and developing strategies to address these issues. The workshop(s) should be designed to engage a broad audience, not just program participants.

(4) The development of enhancement activities and development opportunities that reinforce program goals after the participants' return to their home country. An essential follow-on component will be a longitudinal assessment of the achievements of the program.

Possible Program Model:

1. The U.S. grantee and in-country partner identify Sinhalese citizens to participate in the U.S.-based program. Then a three to four week U.S. program would occur that includes an orientation, study tour/site visits; possible short-term internships/work shadowing opportunities; hands on training/training-of-trainers; professional development; and the development of action plans.

2. A Sri Lanka-based workshop(s) for a broad audience to examine the status of minority communities. Participants in U.S. program help design the seminar and serve as co-presenters.

3. Enrichment activities would be developed that could include having support materials translated into the local language, small grants for projects designed to expand the exchange experience, and other activities.

REGION: Western Hemisphere (WHA):

WHA: Creating Economic Growth to Fight Poverty and Strengthen Democracy.

Program Contact: Laverne Johnson, tel: (202) 453-8160, e-mail: JohnsonLV@state.gov.

Project Goals: ECA seeks proposals designed to promote local grassroots economic growth and prosperity among emerging youth leaders from the indigenous and Afro-Latino communities by sharing practical methods to achieve this goal and to develop community leadership skills as a means to strengthen democracy. To increase understanding within the community of the linkage between entrepreneurial activity and free markets as well as the importance of transparency and accountability in business and government.

Audience: Young entrepreneurs, media representatives, community leaders, and officials from governmental and non-governmental organizations that either service or come from the indigenous and Afro-Latino communities of the Hemisphere with a special emphasis on women.

Eligible Countries: (Single-country and multiple-country projects accepted) Bolivia, Brazil, Colombia, Ecuador, Mexico, Nicaragua, Peru, and Venezuela.

Successful programs will achieve the following:

• Educate young men and women in entrepreneurial thinking and business leadership skills to empower them to engage in business creation.

• Improve among participants an understanding of the role communication plays in creating the conditions necessary for a free market economy.

• A better understanding of the roles of the private sector, and to a lesser extent, public sector who shape the local business environment.

• An appreciation of the role of the individual entrepreneur in creating economic growth.

• Enhance appreciation for American business practices and the role of the individual in creating growth through grassroots-focused entrepreneurial efforts.

• Establish a structured interaction among American and Hemisphere participants designed to develop enduring professional ties.

• Expand leadership capacity enabling participants to initiate and support activities in their home countries that focus on development and community service.

Successful applicants must fully demonstrate a capacity to achieve the following:

(1) Recruit and select approximately 30 individuals from the business associations, banking and regulatory agencies and print media. The delegation should include individual business owners and individuals who report on business from diverse regions of the participating country. Program should be designed for two groups of 15 to travel to the U.S. for not less than ten days. For this phase of the program, partnering with organizations based in the proposed host-country is required.

(2) In addition to identifying in-country partner and screening, selecting, and preparing participants prior to departure for the United States, the grantee will be responsible for building and executing a four to six week residency program in the United States for approximately twelve additional Hemisphere participants.

(3) The final part of the program will be conducting enhancement activities and leadership development opportunities that reinforce program goals after all participants' return to their home country. An essential follow on component will be a longitudinal assessment of the achievements of the program.

Possible Program Model:

1. Selected participants invited to attend in-country workshops (presented by the U.S. grantee and in-country partner) that focus on effective, practical methods of stimulating entrepreneurial skills and support free market structures in the countries listed in this announcement.

2. Key members of the in-country workshops invited to U.S. for business facilitation or mentoring to promote innovation and networking skills. Develop action plans to promote entrepreneurial skills and free markets upon return home.

3. Upon return, participants implement business action plans with guidance from U.S. mentors utilizing email and other direct communication.

4. U.S. mentors travel to country to evaluate implementation of action plan and offer assistance.

III. Award Information

Type of Award: Grant Agreement.

Fiscal Year Funds: 2008, pending availability.

Approximate Total Funding: $5,000,000.

Approximate Number of Awards: 20.

Approximate Average Award: $250,000 (Please Note: For the Legislative Education and Practice (LEAP) program outlined under the European Section of this document, the Office anticipates awarding one grant for approximately $400,000. It is anticipated that all other awards made under this competition will average approximately $300,000.)

Ceiling of Award Range: $350,000.

Anticipated Award Date: Pending availability of funds, September 1, 2008.

Anticipated Project Completion Date: September 30, 2010.

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Grants awarded to eligible organizations with less than four years of experience in conducting international exchange programs will be limited to $60,000.

(b.) Any one organization is limited to submitting no more than four proposals in this entire competition. If any one organization submits more than four, then all submitted proposals will be deemed ineligible in this competition.

IV. Application and Submission Information:

Note: Please read the complete announcement before sending inquiries or submitting proposals. Once the RFGP deadline has passed, Bureau staff may not discuss this competition with applicants until the proposal review process has been completed.

IV.1. Contact Information To Request an Application Package

Please contact the Office of Citizen Exchanges, ECA/PE/C, Room 220, U.S. Department of State, SA-44, 301 4th Street, SW., Washington, DC 20547, (202) 453-8174, GustafsonDP@State.gov to request a Solicitation Package. Please refer to the Funding Opportunity Number ECA/PE/C-08-01 located at the top of this announcement when making your request.

Alternatively, an electronic application package may be obtained from grants.gov. Please see section IV.3f for further information.

The Solicitation Package contains the Proposal Submission Instruction (PSI) document which consists of required application forms, and standard guidelines for proposal preparation.

Please specify Program Specialist David Gustafson and refer to the Funding Opportunity Number ECA/PE/C-08-01 located at the top of this announcement on all other inquiries and correspondence.

IV.2. To Download a Solicitation Package Via Internet

The entire Solicitation Package may be downloaded from the Bureau's Web site at http://exchanges.state.gov/education/rfgps/menu.htm, or from the Grants.gov website at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places critically important emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, FAX: (202) 453-8640.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Budget requests may not exceed $350,000. There must be a summary budget as well as breakdowns reflecting both administrative and program budgets. Applicants may provide separate sub-budgets for each program component, phase, location, or activity to provide clarification. The Bureau reserves the right to increase or decrease awards to meet the overall needs of the program.

IV.3e.2. Allowable costs for the program include the following:

1. Travel. International and domestic airfare; visas; transit costs; ground transportation costs. Please note that all air travel must be in compliance with the Fly America Act. There is no charge for J-1 visas for participants in Bureau sponsored programs.

2. Per Diem. For U.S.-based programming, organizations should use the published Federal per diem rates for individual U.S. cities. Domestic per diem rates may be accessed at: http://www.gsa.gov/Portal/gsa/ep/contentView.do?programId=9704&channelId=-15943&ooid=16365&contentId=17943&pageTypeId=8203&contentType=GSA_BASIC&programPage=%2Fep%2Fprogram%2FgsaBasic.jsp&P=MTT.

ECA requests applicants to budget realistic costs that reflect the local economy and do not exceed Federal per diem rates. Foreign per diem rates can be accessed at: http://aoprals.state.gov/content.asp?content_id=184&menu_id=78.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working meal. Normally, no more than one working meal may be provided during the program. Per capita costs may not exceed $15-$25 for lunch and $20-$35 for dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources. Please refer to the Solicitation Package for complete budget guidelines and formatting instructions.

IV.3f. Application Deadline and Methods of Submission:

Application Deadline Date: February 15, 2008.

Reference Number: ECA/PE/C-08-01.

Methods of Submission: Applications may be submitted in one of two ways:

(1.) In hard-copy, via a nationally recognized overnight delivery service (i.e., DHL, Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: U.S. Department of State, SA-44, Bureau of Educational and Cultural Affairs, Ref.: ECA/PE-08-01, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassy(ies) for its(their) review.

IV.3f.2. Submitting Electronic Applications

Applicants have the option of submitting proposals electronically through Grants.gov (http://www.grants.gov). Complete solicitation packages are available at Grants.gov in the “Find” portion of the system. Please follow the instructions available in the 'Get Started' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to:

Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3f.3. Applicants may not submit proposals that address more than one region or that include countries not eligible under a specific theme designated in the RFGP. Proposals that do so will be declared technically ineligible and will receive no further consideration in the review process. For the purposes of this competition, eligible regions are Africa, East Asia, Europe, the Near East, North Africa, South Central Asia, and the Western Hemisphere.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning and Ability to Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, internships, seminars and/or consulting should be described in detail. Sample training schedules should be outlined. Responsibilities of proposed in-country partners should be clearly described. A discussion of how the applicant intends to address language issues should be included, if needed.

2. Institutional Capacity: Proposals should include (1) the institution's mission and date of establishment; (2) detailed information about proposed in-country partner(s) and the history of the partnership; (3) an outline of prior awards-U.S. government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

3. Cost Effectiveness and Cost Sharing: Overhead and administrative costs in the proposal budget, including salaries, honoraria and subcontracts for services, should be kept to a minimum. Proposals in which the administrative costs do not exceed 25% of the total requested ECA grant funds will be more competitive (see IV.3e.2 #14 for clarification on this). Applicants are strongly encouraged to cost share a portion of overhead and administrative expenses. Cost-sharing, including contributions from the applicant, proposed in-country partner(s), and other sources should be included in the budget request. Proposal budgets that do not reflect cost sharing will be deemed not competitive in this category.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) and the Diversity, Freedom and Democracy Guidelines section, Item IV.3d.2, above for additional guidance.

5. Post-Grant Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

6. Program Monitoring and Evaluation: Proposals should include a detailed plan to monitor and evaluate the program. Program objectives should target clearly defined results in quantitative terms. Competitive evaluation plans will describe how applicant organizations would measure these results, and proposals should include draft data collection instruments (surveys, questionnaires, etc) in Tab E. Successful applicants (grantee institutions) will be expected to submit a report after each program component concludes or on a quarterly basis, whichever is less frequent. The Bureau also requires that grantee institutions submit a final narrative and financial report no more than 90 days after the expiration of a grant.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

For assistance awards involving the Palestinian Authority: All awards made under this competition must be executed according to all relevant laws and policies regarding assistance to the Palestinian Authority, and to the West Bank and Gaza. Recipients must consult with the Public Affairs Section in Jerusalem prior to submission of proposal.

Note: To assure that planning for the inclusion of the Palestinian Authority complies with requirements, please contact Thomas Johnston, Tel. (202) 453-8162; e-mail: JohnstonTJ@state.gov for additional information.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus one electronic copy of the following reports:

1. Quarterly program and financial reports for the duration of the program.

2. A final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Optional Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three weeks prior to the official opening of the activity.

VII. Agency Contacts

For questions about this announcement, contact: Brent Beemer, Office of Citizen Exchanges, ECA/PE/C, Room 220, ECA/PE/C-08-01, U.S. Department of State, SA-44, 301 4th Street, SW., Washington, DC 20547, 202-453-8147; BeemerBT@state.gov.

All correspondence with the Bureau concerning this RFGP should reference the above title and number ECA/PE/C-08-01. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 13, 2007.
C. Miller Crouch,
Acting Assistant Secretary, Bureau of Educational and Cultural Affairs, Department of State.

[FR Doc. E7-22659 Filed 11-19-07; 8:45 am]

BILLING CODE 4710-05-P